DEPARTMENT OF LABOR

Occupational Safety and Health Administration

29 CFR Part 1978

[Docket No. OSHA-2008-0026]

RIN 1218-AC36

Collection of Information Requirement Related to Procedures for the Handling of Retaliation Complaints Under the Employee Protection Provision of the Surface Transportation Assistance Act of 1982

AGENCY: Occupational Safety and Health Administration (OSHA); Department of Labor.

ACTION: Clarification.

SUMMARY: OSHA is informing the public of a collection of information requirement contained in the Procedures for the Handling of Retaliation Complaints Under the Employee Protection Provision of the Surface Transportation Assistance Act of 1982 interim final rule, published August 31, 2010. This clarification notice informs the public about the means by which to comment on this collection of information requirement prior to OSHA's submission of an information collection request (ICR) extension to the Office of Management and Budget (OMB) for approval under the Paperwork Reduction Act of 1995.

DATES: Comments on the collection of information requirement in the interim final rule must be submitted (postmarked, sent, or received) to the ICR docket, Docket No. OSHA-2010-0049, by December 27, 2010.

FOR FURTHER INFORMATION CONTACT: Nilgun Tolek, Director, Office of the Whistleblower Protection Program, Occupational Safety and Health Administration, U.S. Department of Labor, Room N-3610, 200 Constitution Avenue, NW., Washington, DC 20210; telephone: (202) 693-2199. This is not a toll-free number. The alternative formats available are large print, electronic file on computer disk (Word Perfect, ASCII, Mates with Duxbury Braille System) and audiotape.

SUPPLEMENTARY INFORMATION: On August 31, 2010, OSHA published notice of an interim final rule containing updated procedures for the handling of retaliation complaints under the employee protection provision of the Surface Transportation Assistance Act of 1982 (STAA) (75 FR 53544).

In the August 31, 2010 notice, OSHA indicated that the interim final rule did not contain collection of information requirements subject to review by OMB under the provisions of the Paperwork Reduction Act of 1995 (Pub. L. 104-13) (PRA). (75 FR at 53552) However, upon reconsideration, OSHA has determined that there is a collection of information requirement associated with the initiation of STAA whistleblower complaints.

OSHA currently has OMB approval for collection of information requirements related to the handling of retaliation complaints filed under various whistleblower protection statutes in the “Regulations Containing Procedures for Handling of Retaliation Complaints” ICR, OMB Control Number 1218-0236. OSHA is currently requesting that OMB extend approval of this ICR and has included in its extension request the collection of information requirement contained in the updated STAA whistleblower procedures. As a result of including the collection of information requirement contained in the updated STAA whistleblower procedures in this ICR, the burden hours in the ICR will increase by 305.

The Federal Register notice soliciting public comment on the extension of the “Regulations Containing Procedures for Handling of Retaliation Complaints” ICR is in Docket No. OSHA-2010-0049. Comments on the requested extension of this ICR may be submitted to Docket No. OSHA-2010-0049 electronically at http://www.regulations.gov, the Federal eRulemaking Portal, or by facsimile, mail, hand delivery, express mail, messenger or courier service to the OSHA Docket office, as indicated in the related Federal Register notice.

List of Subjects in 29 CFR Part 1978

Administrative practice and procedure, Employment, Highway safety, Investigations, Motor carriers, Motor vehicle safety, Reporting and recordkeeping requirements, Safety, Transportation, Whistleblowing.

Authority and Signature

U.S. Department of Labor, 200 Constitution Avenue, NW., Washington, DC 20210, under the following authorities: 49 U.S.C. 31101 and 31105, Secretary of Labor's Order 4-2010, 75 FR 55355 (Sept. 10, 2010).

Signed in Washington, DC, on November 17, 2010.
David Michaels,
Assistant Secretary of Labor for Occupational Safety and Health.

[FR Doc. 2010-29415 Filed 11-22-10; 8:45 am]

BILLING CODE 4510-26-P